AGENCY FOR INTERNATIONAL DEVELOPMENT

Partnership for Peace Fund Advisory Board; Notice of Meeting

AGENCY: United States Agency for International Development.

ACTION: Request for public comment and notice of public meeting.

SUMMARY: The United States Agency for International Development (USAID) announces a public meeting, and requests public comment for the third meeting of the Partnership for Peace Fund (PPF) Advisory Board to receive further information on the DFC's Joint Investment for Peace Initiative under MEPPA; discuss feedback and insights from the recent Board trip to Israel and the West Bank; and provide recommendations for peacebuilding programming at USAID. A portion of this meeting will be closed to the public.

DATES:

1. Written comments and information are requested on or before August 21, 2023, at 5 p.m. EDT.

2. The public meeting will take place on Thursday, August 24, 2023, from 9 a.m. to 10:30 a.m. EDT via the Zoom platform (https://usaid.zoomgov.com/j/1613820653) followed by the closed portion.

3. The meeting does not require pre-registration.

ADDRESSES: You may submit comments regarding the work of the PPF Advisory Board by email to MEPPA@usaid.gov. Include “Public Comment, PPF Advisory Board Meeting, August 24” in the subject line. All public comments and questions will be included in the official record of the meeting and posted publicly on the USAID website.

Please email MEPPA@usaid.gov to request reasonable accommodations for the public meeting. Include “Request for Reasonable Accommodation, PPF Advisory Board Meeting, August 24” in the subject line.

FOR FURTHER INFORMATION CONTACT: Dan McDonald, 202-712-4938, meppa@usaid.gov.

SUPPLEMENTARY INFORMATION: In December 2020, Congress passed the Nita M. Lowey Middle East Partnership for Peace Act, or MEPPA, with bipartisan support. The Act directs USAID and the U.S. International Development Finance Corporation (DFC), in coordination with the Department of State, to program $250 million over five years to build the foundation for peaceful coexistence between Israelis and Palestinians through a new PPF, managed by USAID, and a Joint Investment Initiative, managed by the DFC.

MEPPA serves as a recognition that economic, social, and political connections between Israelis and Palestinians are the best way to foster mutual understanding and provide the strongest basis for a sustainable, two-state solution. USAID's Middle East Bureau has been working with Congress, interagency colleagues, and partners in Israel, the West Bank, and Gaza to implement the Act. MEPPA also calls for the establishment of a board to advise USAID on the strategic direction of the PPF.

Composed of up to 15 members, the PPF Advisory Board includes development experts, private sector leaders and faith-based leaders who are appointed by members of Congress and the USAID Administrator. As stated in its charter, the Board's role is to:

1. To consult with, provide information to and advise USAID, and other U.S. Government agencies, as appropriate, on matters and issues relating to the PPF, including on:

• the efficacy of United States and international support for grassroots, people-to-people efforts aimed at fostering tolerance, countering extremist propaganda and incitement in the State of Israel, the West Bank, and Gaza;

• strengthening engagement between Palestinians and Israelis, including through people-to-people peace-building programs to increase the bonds of friendship and understanding; and

• investing in cooperation that develops the Palestinian economy and results in joint economic ventures;

2. To make recommendations on the types of projects USAID should seek to further the purposes of the People-to-People PPF;

3. To make recommendations on partnerships with foreign governments and international organizations to leverage the impact of the PPF; and

4. To inform USAID's required reporting to the appropriate Congressional committees.

The following are the current members of the Advisory Board:

• Chair: The Honorable George R. Salem

• The Honorable Elliott Abrams

• Farah Bdour

• Rabbi Angela Buchdahl

• Rabbi Michael M. Cohen

• Sander Gerber

• Ambassador Mark Green (ret.)

• Hiba Husseini

• Heather Johnston

• Harley Lippman

• The Honorable Nita M. Lowey

• Dina Powell McCormick

• Nickolay Mladenov

• Jen Stewart

• The Honorable Robert Wexler

PPF Advisory Board meetings are held twice a year and are public. More information about how USAID is implementing MEPPA to increase people-to-people partnerships between Israelis and Palestinians is available at: https://www.usaid.gov/west-bank-and-gaza/meppa.

The purpose of this meeting is for the Advisory Board to gain a better understanding of the progress so far to program funds under the PPF to bring Israelis and Palestinians together to increase understanding and advance the goal of a two-state solution.

During this meeting, the Board will (1) receive further information on the DFC's Joint Investment for Peace Initiative under MEPPA; (2) discuss feedback and insights from the recent Board trip to Israel and the West Bank; and (3) provide recommendations for peacebuilding programming at USAID. The close portion of the meeting will involve discussion of matters determined to be exempt from the open meeting and public participation requirements found in Sections 10(a)(1) and 10(a)(3) of the Federal Advisory Committee Act (FACA) (5 U.S.C. 1001-1014).

Closed Meeting Exemption and Determination

The exemption is authorized by section 10(d) of the FACA, which permits the closure of advisory committee meetings, or portions thereof, if the head of the agency to which the advisory committee reports determines such meetings may be closed to the public in accordance with subsection (c) of the Government in the Sunshine Act (5 U.S.C. 552b(c)). In this case, the applicable provisions of 5 U.S.C. 552b(c) are subsection 552b(c)(9)(B), which permits closure to protect information that would be likely to significantly frustrate implementation of a proposed agency action were it to be disclosed prematurely, and 552b(c)(6), which permits closure to protect information disclosure of which would constitute an unwarranted invasion of privacy. The closed session of the meeting will involve committee discussions and guidance regarding USAID's strategies and policies that substantially impact the interests of third-parties. The Administrator, with the concurrence of the General Counsel, formally determined on June 13, 2023 pursuant to section 10 of the FACA, (5 U.S.C. 1009(d)), that the portion of the meeting dealing with the privacy interests of third-parties and pre-decisional changes to Agency source selection policies and evaluation criteria relating to awards under the Partnership for Peace Fund shall be exempt from the provisions relating to public meetings found in 5 U.S.C. 1009(a)(1) and 1009(a)(3).

The remaining portions of the meeting will be open to the public.

The open session will be accessible to the public. See details below.

Request for Public Comment

To inform the direction and advice of the Board, USAID invites written comments from the public on areas for focus and strategies for people-to-people peacebuilding under the PPF.

Written comments and information are requested on or before Monday, August 21, 2023, at 5 p.m. EDT. Include “Public Comment, PPF Advisory Board Meeting, August 24” in the subject line. Please submit comments and information as a Word or PDF attachment to your email. You are encouraged to submit written comments even if you plan to attend the public meeting. All public comments and questions will be included in the official record of the meeting and posted publicly on the USAID website.

Public Meeting

A public meeting will take place Thursday, August 24, 2023, from 9 a.m. to 10:30 a.m. EDT. [The closed portion of the meeting will take place from approximately 10:45 a.m. to 12:15 p.m. The open portion of the meeting will take place from 9 a.m. to 10:30 a.m.]. This meeting is free and open to the public. Persons wishing to attend the meeting should use the following link: (https://usaid.zoomgov.com/j/1613820653).

American Sign Language interpretation will be provided during the public meeting. Requests for reasonable accommodations should be directed to Daniel McDonald at MEPPA@usaid.gov. Please include “Request for Reasonable Accommodation, PPF Advisory Board Meeting, August 24” in the subject line.

Megan Doherty,
USAID Designated Federal Officer for the PPF Advisory Board, Bureau for the Middle East, U.S. Agency for International Development.

[FR Doc. 2023-14981 Filed 7-20-23; 8:45 am]

BILLING CODE 6116-01-P